DEPARTMENT OF COMMERCE

National Oceanic and Atmospheric Administration

[I.D. 071505A]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Administrator, Northeast Region, NMFS (Regional Administrator) has made a preliminary determination that the subject Exempted Fishing Permit (EFP) application contains all the required information and warrants further consideration. The Regional Administrator has also made a preliminary determination that the activities authorized under the EFP would be consistent with the goals and objectives of the Atlantic Herring and Northeast (NE) Multispecies Fishery Management Plans (FMPs). However, further review and consultation may be necessary before a final determination is made to issue the EFP. Therefore, NMFS announces that the Regional Administrator proposes to issue an EFP that would allow up to four vessels at any given time to conduct fishing operations that are otherwise restricted by the regulations governing the fisheries of the Northeastern United States. The EFP would allow for exemptions from certain regulations that implement the emergency action to address haddock bycatch in the 2005 herring fishery for the period August 1 - October 30, 2005. The EFP would exempt vessels from requirements specified at 50 CFR 648.86(a)(3) that restrict Category 1 herring vessels from possessing more than 1,000 lb (0.45 mt) of haddock per trip. The vessels would be part of a study entitled, “Modifications to Herring Midwater Trawls to Increase Escapement of Non-Target Species (Haddock),” which is being coordinated by the Gulf of Maine Research Institute on behalf of several research partners. The EFP application is being requested by one of the project partners, East Coast Pelagic Association (ECPA), and would allow trips to compare a standard Atlantic herring midwater trawl with a modified Atlantic herring midwater trawl intended to allow escapement of haddock. Nets would be towed by either two single vessels, or by two sets of midwater pair trawlers, resulting in a maximum of four vessels at any given time. The vessels will test gear modifications and use underwater video gear to research the vertical distribution and reaction behavior of herring and haddock during the seasonal and spatial overlap that occurs between these species on Georges Bank. Research is proposed for the period August 1 - October 30, and participating vessels would deploy a modified net and a standard net at intervals that provide standardized statistical results. The fishing activity would consist of 15-20 trips of 2.5 days each, with approximately 3-5 tows per day, of 3-4 hours each.

Regulations under the Magnuson-Stevens Fishery Conservation and Management Act require publication of this notification to provide interested parties the opportunity to comment on applications for proposed EFPs.

DATES: Comments on this document must be received on or before August 4, 2005.

ADDRESSES: Comments on this notice may be submitted by e-mail. The mailbox address for providing e-mail comments is DA5-176@noaa.gov. Include in the subject line of the e-mail comment the following document identifier: “Comments on ECPA EFP Proposal for Modifications to Herring Midwater Trawls to Increase Escapement of Non-Target Species.” Written comments should be sent to Patricia A. Kurkul, Regional Administrator, NMFS, Northeast Regional Office, 1 Blackburn Drive, Gloucester, MA 01930. Mark the outside of the envelope “Comments on ECPA EFP Proposal for Modifications to Herring Midwater Trawls to Increase Escapement of Non-Target Species.” Comments may also be sent via fax to (978) 281-9135.

FOR FURTHER INFORMATION CONTACT: Eric Dolin, Fishery Policy Analyst, phone: (978) 281-9259, fax: (978) 281-9135.

SUPPLEMENTARY INFORMATION: A request for an EFP was submitted by ECPA on May 24, 2005. Consistent with the study objective, the applicants are requesting an EFP to authorize up to four vessels at any given time to possess haddock in excess of the 1,000-lb (0.45 mt) trip allowance. All herring landed from such trips would be counted toward the Total Allowable Catch (TAC) established by the Herring FMP for fishing Area 3. Haddock landed from such trips and accounted for under the requirements of the emergency action would be counted toward the haddock bycatch cap. The total estimated catch of herring during the experimental work is projected to be 3,500 - 5,000 mt. The amount of incidental catch of haddock is unknown, with information from the 2004 fishery demonstrating substantial variability in the extent of haddock caught incidentally while midwater trawling for herring.

The Manomet Center for Conservation Sciences would be responsible for collecting data at sea, and would utilize the same subsampling protocol as used by the NMFS Observer Program. Participating vessels would also be required to report all data in their Vessel Trip Reports, and processors required to report haddock culled from catches under the emergency regulations would continue to be required to report all culled haddock.

The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: July 15, 2005.
Alan D. Risenhoover
Acting Director, Office of Sustainable Fisheries, National Marine Fisheries Service.

[FR Doc. E5-3867 Filed 7-19-05; 8:45 am]

BILLING CODE 3510-22-S